NATIONAL AERONAUTICS AND SPACE ADMINISTRATION

[Notice 00-012]

Notice of Prospective Patent License

AGENCY: National Aeronautics and Space Administration.

ACTION: Notice of Prospective Patent License.

SUMMARY: NASA hereby gives notice that VisiCom, of San Diego, California, has applied for a coexclusive license to practice the invention disclosed in NASA Case No. MFS-31243-1 entitled “Video Image Stabilization and Registration (VISAR)” which has been assigned to the United States of America as represented by the Administrator of the National Aeronautics and Space Administration. The license will be limited to the field of use of developing and selling electronic hardware products that execute the VISAR algorithm in real-time, or approach real-time execution of VISAR, or are at least on order of magnitude faster in execution of the VISAR algorithm than any VISAR commercial software products. Written objections to the prospective grant of a license should be sent to Mr. James J. McGroary, Patent Counsel/LS01, Marshall Space Flight Center, Huntsville, AL 35812.

DATE: Responses to this notice must be received by March 27, 2000.

FOR FURTHER INFORMATON CONTACT: Mr. Sammy Nabors, Technology Transfer Department/CD30, Marshall Space Flight Center, Huntsville, AL 35812, (256) 544-5226.

January 20, 2000.
Edward A. Frankle,
General Counsel.

[FR Doc. 00-1939 Filed 1-26-00; 8:45 am]

BILLING CODE 7510-01-U